DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of May 2015.

The National Advisory Committee on Rural Health and Human Services will convene its seventy seventh meeting in the time and place specified below:

Name: National Advisory Committee on Rural Health and Human Services.

Dates and Time: May 27, 2015, 8:45 a.m.—5:00 p.m.; May 28, 2015, 8:30 a.m.—5:15 p.m.; May 29, 2015, 8:30 a.m.—11:00 a.m.

Place: Natural Bridge State Park, 2135 Natural Bridge Rd, Slade, KY 40376, (606) 663-2214.

Status: The meeting will be open to the public.

Purpose: The National Advisory Committee on Rural Health and Human Services provides counsel and recommendations to the Secretary with respect to the delivery, research, development, and administration of health and human services in rural areas.

Agenda: Wednesday morning, at 8:45 a.m., the meeting will be called to order by the Chairperson of the Committee: The Honorable Ronnie Musgrove. The Committee will examine the issue of an increasing difference between life expectancy among the urban and rural populations of the United States. The day will conclude with a period of public comment at approximately 4:45 p.m.

Thursday morning at approximately 8:30 a.m., the Committee will break into Subcommittees and depart for site visits. Subcommittees will visit the Center of Excellence in Rural Health in Hazard, Kentucky, and the Marcum & Wallace Memorial Hospital in Irvine, Kentucky. The day will conclude at the Natural Bridge State Park with a period of public comment at approximately 5:00 p.m.

Friday morning at 8:30 a.m., the Committee will meet to summarize key findings and develop a work plan for the next quarter and the following meeting.

FOR FURTHER INFORMATION CONTACT: Steve Hirsch, MSLS, Executive Secretary, National Advisory Committee on Rural Health and Human Services, Health Resources and Services Administration, Parklawn Building, 17W29-C, 5600 Fishers Lane, Rockville, MD 20857, Telephone (301) 443-0835, Fax (301) 443-2803.

Persons interested in attending any portion of the meeting should contact Catherine Fontenot at the Federal Office of Rural Health Policy (FORHP) via telephone at (301) 945-0897 or by email at cfontenot@hrsa.gov. The Committee meeting agenda will be posted on the Committee's Web site at http://www.hrsa.gov/advisorycommittees/rural/.

Jackie Painter,
Director, Division of the Executive Secretariat.

[FR Doc. 2015-09080 Filed 4-20-15; 8:45 am]

BILLING CODE 4165-15-P